SMALL BUSINESS ADMINISTRATION

[Declaration of Disaster #3560]

State of Texas

Harris County and the contiguous counties of Brazoria, Chamber, Fort Bend, Galveston, Liberty, Montgomery and Waller in the State of Texas constitute a disaster area due to excessive rain, flooding and tornadoes that occurred November 17 through November 18, 2003. Applications for loans for physical damage as a result of this disaster may be filed until the close of business on February 9, 2004, and for economic injury until the close of business on September 8, 2004, at the address listed below or other locally announced locations:

U.S. Small Business Administration,

Disaster Area 3 Office,

14925 Kingsport Road,

Fort Worth, TX 76155-2243.

The interest rates are:

For Physical Damage:

Homeowners with credit available elsewhere: 6.250%;

Homeowners without credit available elsewhere: 3.125%;

Businesses with credit available elsewhere: 6.123%;

Businesses and non-profit organizations without credit available elsewhere: 3.061%;

Others (including non-profit organizations) with credit available elsewhere: 4.875%.

For Economic Injury:

Businesses and small agricultural cooperatives without credit available elsewhere: 3.061%.

The number assigned to this disaster for physical damage is 356006 and for economic injury the number is 9Y3900.

(Catalog of Federal Domestic Assistance Program Nos. 59002 and 59008)
Dated: December 8, 2003.
Hector V. Barreto,
Administrator.

[FR Doc. 03-31080 Filed 12-16-03; 8:45 am]

BILLING CODE 8025-01-P